NATIONAL AERONAUTICS AND SPACE ADMINISTRATION

[Notice (06-073)]

Government-Owned Inventions Available for Licensing

AGENCY: National Aeronautics and Space Administration.

ACTION: Notice of availability of inventions for licensing.

SUMMARY: The inventions listed below assigned to the National Aeronautics and Space Administration, have been filed in the United States Patent and Trademark office, and are available for licensing.

DATES: September 26, 2006.

FOR FURTHER INFORMATION CONTACT: Linda B. Blackburn, Patent Counsel, Langley Research Center, Mail Code 141, Hampton, VA 23681-2199; telephone (757) 864-9260; fax (757) 864-9190.

NASA Case No. LAR-17151-1: Thin Metal Film System to Include Flexible Substrate And Method of Making Same;

NASA Case No. LAR-17149-1: Mechanically Strong, Thermally Stable, and Electrically Conductive Nanocomposite Structure and Method of Fabricating Same; NASA Case No. LAR-17073-1: Tunable Optical Assembly With Vibration Dampening;

NASA Case No. LAR-16571-2: Magnetic Field Response Sensor for Conductive Media;

NASA Case No. LAR-17154-1: Sol-Gel Based Oxidation Catalyst and Coating System Using Same;

NASA Case No. LAR-16736-1: Self-Contained Avionics Sensing and Flight Control System for Small Unmanned Aerial Vehicle;

NASA Case No. LAR-17163-1: Positioning System for Single or Multi-Axis Sensitive Instrument Calibration and Calibration System for Use Therewith.

Dated: September 18, 2006.
Keith T. Sefton,
Deputy General Counsel, Administration and Management.

[FR Doc. E6-15681 Filed 9-25-06; 8:45 am]

BILLING CODE 7510-13-P